DEPARTMENT OF TRANSPORTATION

Federal Aviation Administration

14 CFR Part 39

[Docket No. FAA-2015-0536; Directorate Identifier 2015-CE-004-AD; Amendment 39-18116; AD 2015-05-06]

RIN 2120-AA64

Airworthiness Directives; Flugzeugwerke Altenrheim AG (FFA) Airplanes

AGENCY: Federal Aviation Administration (FAA), DOT.

ACTION: Final rule; request for comments.

SUMMARY: We are adopting a new airworthiness directive (AD) for Flugzeugwerke Altenrheim AG (FFA) Models AS 202/15 “BRAVO”, AS 202/18A “BRAVO”, and AS 202/18A4 “BRAVO” airplanes. This AD results from mandatory continuing airworthiness information (MCAI) issued by the aviation authority of another country to identify and correct an unsafe condition on an aviation product. The MCAI describes the unsafe condition as corrosion on the upper forward fuselage stringers. We are issuing this AD to require actions to address the unsafe condition on these products.

DATES: This AD is effective March 17, 2015.

The Director of the Federal Register approved the incorporation by reference of a certain publication listed in the AD as of March 17, 2015.

We must receive comments on this AD by May 1, 2015.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Gomolzig Flugzeug- und Maschinenbau GmbH, Eisenwerkstraße 9, 58332 Schwelm, telephone: +49 (0) 2336 490 330; fax; +49 (0) 2336 490 339; email: info@gomolzig.de; internet: http://www.gomolzig.de/. You may view this referenced service information at the FAA, Small Airplane Directorate, 901 Locust, Kansas City, Missouri 64106. For information on the availability of this material at the FAA, call (816) 329-4148. It is also available on the Internet at http://www.regulations.gov by searching for and locating Docket No. FAA-2015-0536.

Examining the AD Docket

You may examine the AD docket on the Internet at http://www.regulations.gov by searching for and locating Docket No. FAA-2015-0536; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@FAA.gov.

SUPPLEMENTARY INFORMATION:

Discussion

The European Aviation Safety Agency (EASA), which is the Technical Agent for the Member States of the European Community, has issued AD No. 2015-0023-E, dated February 18, 2015, (referred to after this as “the MCAI”), to correct an unsafe condition for Flugzeugwerke Altenrheim AG (FFA) Models AS 202/15 “BRAVO”, AS 202/18A “BRAVO”, and AS 202/18A4 “BRAVO” airplanes. The MCAI states:

Heavy corrosion was reportedly discovered on an AS 202 aeroplane, between the forward (FWD) windshield frame angle and the upper FWD stringer, left hand (LH) and right hand (RH). The corrosion was found underneath the removed windshield frame. Corrosion was not detected during a general visual inspection from below.

This condition, if not detected and corrected, could lead to failure of the FWD upper stringer, which reduces the structural integrity of the affected area.

To address this potential unsafe condition, Gomolzig Flugzeug- und Maschinenbau GmbH (GFM), acting on behalf of the TC holder, have issued Service Bulletin (SB) No. 2015-1 to provide inspection instructions.

For the reasons described above, this AD requires repetitive inspections of the upper FWD stringer (LH and RH) structure for signs of corrosion and, depending on the findings, the accomplishment of applicable corrective action(s).

This AD is considered to be an interim action and further AD action may follow.

You may examine the MCAI on the Internet at http://www.regulations.gov by searching for and locating Docket No. FAA-2015-0536.

Relevant Service Information Under 1 CFR Part 51

Gomolzig Flugzeug- und Maschinenbau GmbH has issued Service Bulletin GFM SB 2015-1, dated February 5, 2015. The actions described in this service information are intended to correct the unsafe condition identified in the MCAI. The Gomolzig Flugzeug- und Maschinenbau GmbH service bulletin describes procedures for inspecting the upper forward stringer (LH and RH) structure for signs of corrosion and making all necessary repairs. This service information is reasonably available; see ADDRESSES for ways to access this service information.

FAA's Determination and Requirements of the AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

This AD is considered an interim action. After issuing this AD, we may initiate further AD action to require a possible terminating action for the 12-month repetitive inspections.

FAA's Determination of the Effective Date

An unsafe condition exists that requires the immediate adoption of this AD. The FAA has found that the risk to the flying public justifies waiving notice and comment prior to adoption of this rule because corrosion on the upper forward fuselage stringers could cause them to fail, which could result in reduced structural integrity of the windshield frame. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2015-0536; Directorate Identifier 2015-CE-004-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 1 product of U.S. registry. We also estimate that it will take about 6 work-hours per product to comply with the basic requirements of this AD. The average labor rate is $85 per work-hour.

Based on these figures, we estimate the cost of the AD on U.S. operators to be $510.

In addition, we estimate that any necessary follow-on actions will take about 20 work-hours and require parts costing $1,000, for a cost of $2,700 per product. We have no way of determining at this time if the affected airplane may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2015-05-06 Flugzeugwerke Altenrheim AG (FFA): Amendment 39-18116; Docket No. FAA-2015-0536; Directorate Identifier 2015-CE-004-AD.

(a) Effective Date

This airworthiness directive (AD) becomes effective March 17, 2015.

(b) Affected ADs

None.

(c) Applicability

This AD applies to Flugzeugwerke Altenrheim AG (FFA) Models AS 202/15 “BRAVO”, AS 202/18A “BRAVO”, and AS 202/18A4 “BRAVO” airplanes, all serial numbers, certificated in any category.

(d) Subject

Air Transport Association of America (ATA) Code 53: Fuselage.

(e) Reason

This AD was prompted by a report of corrosion found on the upper forward windshield frame angle and the upper forward stringer. We are issuing this AD to detect and correct corrosion on the left-hand (LH) and the right-hand (RH) upper forward fuselage stringers. If not detected and corrected, this condition could lead to failure of the LH and/or the RH upper forward fuselage stringers, which could result in reduced structural integrity of the windshield frame.

(f) Actions and Compliance

Unless already done, do the following actions.

(1) Before further flight after March 17, 2015 (the effective date of this AD) and thereafter at intervals not to exceed 12 months, do a detailed visual inspection of the LH and RH forward (FWD) upper stringer top side structure for corrosion and any signs of damage to the corrosion protection. Do the inspection following the Instructions section in Gomolzig Flugzeug- und Maschinenbau GmbH Service Bulletin GFM SB 2015-1, dated February 5, 2015.

(2) If corrosion or any signs of damage to the corrosion protection is found during any inspection required in paragraph (f)(1) of this AD, before further flight after the inspection where corrosion or signs of damage to the corrosion protection is found, remove the corrosion at the affected area following the Instructions section in Gomolzig Flugzeug- und Maschinenbau GmbH Service Bulletin GFM SB 2015-1, dated February 5, 2015.

(3) If corrosion is found during any inspection required in paragraph (f)(1) of this AD that exceeds the allowable limits specified in paragraph 1.f of the Instructions section in Gomolzig Flugzeug- und Maschinenbau GmbH Service Bulletin GFM SB 2015-1, dated February 5, 2015, before further flight after the inspection where corrosion is found that exceeds the allowable limits, contact Gomolzig Flugzeug- und Maschinenbau GmbH at the address specified in paragraph (i)(3) of this AD for an FAA-approved repair scheme and incorporate the repair.

(4) Within 30 days after doing the initial inspection required in paragraph (f)(1) of this AD, report the results, including findings of no corrosion, to Gomolzig Flugzeug- und Maschinenbau GmbH at the address specified in paragraph (i)(3) of this AD using page 5 of Gomolzig Flugzeug- und Maschinenbau GmbH Service Bulletin GFM SB 2015-1, dated February 5, 2015.

(g) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(g) Special Flight Permit

In accordance with 14 CFR 39.23, a single flight is allowed to a location where the initial inspection required in paragraph (f)(1) of this AD can be done provided the following limitations are adhered to:

(1) No aerobatic maneuvers.

(2) Normal category maneuvering load factors must not exceed +3.8g/−1.9g.

(h) Related Information

Refer to MCAI European Aviation Safety Agency (EASA) AD No. 2015-0023-E, dated February 18, 2015, for related information. You may examine the MCAI on the Internet at http://www.regulations.gov by searching for and locating Docket No. FAA-2015-0536.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Gomolzig Flugzeug- und Maschinenbau GmbH Service Bulletin GFM SB 2015-1, dated February 5, 2015.

(ii) Reserved.

(3) For Gomolzig Flugzeug- und Maschinenbau GmbH service information identified in this AD, contact Gomolzig Flugzeug- und Maschinenbau GmbH, Eisenwerkstraße 9, 58332 Schwelm, telephone: +49 (0) 2336 490 330; fax; +49 (0) 2336 490 339; email: info@gomolzig.de; internet: http://www.gomolzig.de/.

(4) You may view this referenced service information at the FAA, Small Airplane Directorate, 901 Locust, Kansas City, Missouri 64106. For information on the availability of this material at the FAA, call (816) 329-4148. It is also available on the Internet at http://www.regulations.gov by searching for and locating Docket No. FAA-2015-0536.

(5) You may view this service information that is incorporated by reference at the National Archives and Records Administration (NARA). For information on the availability of this material at NARA, call 202-741-6030, or go to: http://www.archives.gov/federal-register/cfr/ibr-locations.html.

Issued in Kansas City, Missouri on March 4, 2015.
Pat Mullen,
Acting Manager, Small Airplane Directorate, Aircraft Certification Service.

[FR Doc. 2015-05788 Filed 3-16-15; 8:45 am]

BILLING CODE 4910-13-P